DEPARTMENT OF EDUCATION

[CFDA No: 84.051B]

Office of Vocational and Adult Education; College and Career Transitions Initiative (CCTI)—Cooperative Agreement; Notice inviting Applications for New Awards for Fiscal Year (FY) 2002

Purpose of Program: The purpose of the college and career transitions initiative (CCTI) is to strengthen the role of community and technical colleges in easing student transitions between secondary and postsecondary education, and improving academic performance at both the secondary and postsecondary levels.

Eligible Applicants: Consortia that include both: (1) a national or international, non-profit, private membership organization—chiefly comprised of institutions of higher education that offer a two-year, associate degree or certificate program— and (2) two or more individual institutions of higher education that offer a two-year associate degree or certificate program.

Applications Available: August 12, 2002.

Deadline for Transmittal of Applications: September 11, 2002.

Deadline for Intergovernmental Review: September 11, 2002.

Estimated Available Funds: $2,500,000.

Estimated Amount of Award: $2,500,000.

Estimated Number of Awards: 1, in the form of a cooperative agreement.

Note: The Department is not bound by any estimates in this notice.

Project Period: Up to 60 months, depending upon the availability of appropriations in subsequent years under the current statutory authorization.

Applicable Statute and Regulations: (a) The relevant provisions of the Carl D. Perkins Vocational and Technical Education Act of 1998 (the Act), 20 U.S.C. 2301 et seq., in particular section 114(c)(1)(A) of the Act (20 U.S.C. 2324(c)(1)(A)).

(b) The Education Department General Administrative Regulations (EDGAR) in 34 CFR parts 74, 75, 77, 79, 81, 82, 85, 86, 97, 98, and 99.

SUPPLEMENTARY INFORMATION: This initiative is designed to support the principles established in the No Child Left Behind Act of 2001 by investing in strategies to (1) close the achievement gap, (2) create meaningful educational options that help students with diverse backgrounds and needs reach uniformly high standards, and (3) ensure that students attain these high standards at each level of their educational careers.

The initiative will further the development, by postsecondary institutions in partnership with secondary schools, of academically rigorous programs of study organized around broad occupational areas. These programs of study, connecting course offerings at the secondary level with increasingly advanced academic and technical courses at the postsecondary level, will equip students with the skills and credentials required for success in high-demand, high-wage career fields.

Anticipated outcomes for participating students include: Increased success rates for entry into, and completion of postsecondary education; acceleration of attainment of postsecondary certificate or degree; decreased need for remediation; and improved levels of academic and skill achievement.

Program Activities

The consortium must carry out the following activities with the assistance provided under the cooperative agreement:

(a) Proposal and Partnership with Promising Programs.

(1)(i) The consortium must retain control of and responsibility for the Federal funds awarded under CCTI, and must be responsible for carrying out the various required activities specified in this notice.

(ii) The consortium must propose in its application, and—in consultation with the Department—enter into at least 10 but no more than 20 partnerships, for the purpose of expanding promising career and college transition programs.

(iii) These programs must focus on one or more broad, high-growth, occupational areas.

(iv) The consortium must enter into partnerships at secondary or postsecondary sites, or both, to provide students with a coherent sequence of high-level academic and technical skills, ensure seamless connections between students' secondary and postsecondary coursework, and culminate in joint credit or a certificate.

(v) Each partnership must be led by an institution of higher education that is a member of the consortium submitting the application, in partnership with (A) one or more secondary schools or local educational agencies (LEAs), and (B) two or more local employers.

(vi) If the consortium regards it as beneficial to the project, the partnership may also include (A) the eligible State agency responsible for administering vocational and technical education, and (B) the State agency responsible for administering institutions of higher education that offer a two-year associate degree or certificate program.

(vii) Of the partnerships entered into by the consortium—

(A) Two must include a focus on health science;

(B) Two must include a focus on information technology; and

(C) The remaining partnerships must be focused on other occupational areas that are, at a minimum, high-growth and high-demand, and reflect the needs of national, State, or regional labor markets.

(2)(i) If selection of partnerships is possible before the application deadline, the consortium must list in its application each proposed partnership, including—

(A) The lead institution and all participating partners; and

(B) The occupational focus area or areas of each from section (a)(1)(vii)(A)-(C) of this notice.

(ii) If selecting partnerships is not possible before the application deadline, the consortium must state a specific timeframe within which it proposes to select partnerships.

(iii) In either case, the consortium must clearly describe the criteria and process for selecting the partnerships, including, at a minimum—

(A) Evidence of high academic and technical standards calibrated to the most rigorous State standards for which the State holds students, teachers, and administrators accountable;

(B) Evidence of curriculum alignment;

(C) Evidence of existing articulation agreements among the postsecondary institution and its secondary partner or partners; and

(D) Evidence of institutional commitment and capacity on the part of all partners to enhance and expand their programs of study in keeping with the requirements of this notice.

(3) To the extent practicable, the consortium must ensure that selected partnerships represent geographical dispersion, a variety of delivery mechanisms, and a range of strategies to connect the secondary and postsecondary levels, to facilitate student transitions.

(4) To solicit input from representatives of institutions of higher education, secondary schools, employers representing the selected broad occupational area or areas, and other relevant parties, the consortium may encourage each partnership to collaborate or consult with existing local advisory boards or business-education partnerships.

(b) Project Activities.The consortium must do the following:

(1) Describe in its application and implement on receipt of the CCTI cooperative agreement, a management plan.

(i) The management plan must be designed to ensure effective implementation of activities conducted together with each partnership.

(ii) The management plan must include, at a minimum, convening representatives of the partnerships—by telephone quarterly and in person yearly—possibly in coordination with other annual consortium events, to—

(A) Discuss the progress of implementation and share promising practices and lessons learned;

(B) Provide technical assistance to individual partnerships in addressing challenges and identifying successful strategies; and, if common needs are identified, to the partnerships as a group; and

(C) Provide for regular electronic communications to and among the partnerships to ensure that relevant information, research, news, reminders and other items of interest are shared in a consistent manner.

(2) (i) Through its collaboration with the partnerships, develop and refine practices that help students move effectively from high school to college by better aligning and improving the quality of secondary and postsecondary programs in high-demand career areas.

(ii) Specifically, the consortium and the partnerships must implement and enhance strategies such as—

(A) Curriculum development and course sequencing;

(B) Rigorous instructional strategies based on appropriate existing State standards;

(C) Regular, high-quality professional development for teachers;

(D) Academic assessments, assessment of employability skills, and industry-based assessments and certifications;

(E) Dual or concurrent enrollment for academic and technical courses;

(F) Academic and career-related counseling and other student support services;

(G) Distance learning using computer-based and internet-based technologies; and

(H) Articulation with postsecondary baccalaureate programs.

(3) Issue a contract for the documentation of program outcomes. This includes the following:

(i) The use of existing data sources or the establishment of systems for collecting data about participating students on a set of identified anticipated outcomes, including, at a minimum—

(A) Enrollment and persistence in postsecondary education;

(B) Academic and skill achievement;

(C) Rates of remediation;

(D) Postsecondary certificate or degree attainment; and

(E) Entry into employment.

(ii) Rigorous case studies of each partnership, describing each of the partners, selected occupational program or programs of study, and development and implementation activities. Each case study must include, but is not limited to, a description of the following:

(A) Governance structures.

(B) Faculty development.

(C) Strategies to coordinate activities among secondary, postsecondary, and other partners.

(D) Efforts to align postsecondary requirements to the State's established standards for secondary school students.

(E) Facilitators and barriers to project implementation.

(c) Advisory Working Group and Outside Consultation.

(1)(i) In carrying out the CCTI project, the consortium must establish an advisory working group to provide ongoing input to the project partners regarding the project activities.

(ii) The advisory working group must include among its members a representative of the Department, representatives of secondary and postsecondary career occupational areas, representatives of business and industry, and researchers whose expertise and counsel may contribute to the success of the project .

(iii) At a minimum, the consortium must convene the advisory working group in person at least once annually, and must make use of technology to ensure regular, timely, and cost-effective communication.

(iv) The advisory working group must—

(A) Provide advice to the consortium on the implementation of the project;

(B) Help ensure that the project results are useful to a larger audience;

(C) Make recommendations to the consortium and the Department on possible enhancements;

(D) Review and comment on draft evaluation instruments and consortium products; and

(E) Advise on dissemination activities listed in section (d) of this notice.

(d) Dissemination. As the project progresses, the consortium must do the following:

(1) Package and disseminate the findings of the case studies in formats appropriate for each audience to interested entities, such as: postsecondary and secondary institutions and their representative organizations; employer organizations; State agencies responsible for secondary education; State agencies responsible for vocational and technical education; LEAs; and secondary schools.

(2) (i) Assist institutions of higher education that offer a two-year degree or certificate and LEAs to implement or adapt promising programs and strategies developed by the partnerships in ways that meet local needs.

(ii) The consortium may accomplish this through such means as—

(A) Offering professional development activities for States and outlying areas;

(B) Developing training institutes and materials designed to promote the replication of these activities by other partnerships across the country;

(C) If appropriate, organizing a limited number of site visits for practitioners, policymakers, and other interested parties, to demonstrate how these activities work in practice; and

(D) Hosting sessions at conferences, workshops, and other events that provide opportunities to share the promising practices and implementation approaches developed through this cooperative agreement.

(3) Link this project with other efforts of the Department of Education, the Department of Labor, and the National Science Foundation to improve the preparation of individuals for postsecondary and career success.

(e) Evaluation. At the Department's request, the consortium and its partnerships must make available the data collected under section (b)(3)(i)(A)-(E) and (ii)(A)-(E), and participate in all evaluation activities the Department conducts related to this initiative.

(f) Interim Reports. Within 45 days after the conclusion of each project year— except for the final project year in which a final report must be submitted as described in paragraph (g) of this notice— the consortium must prepare and submit to the Department a progress report that—

(1) Provides an update on the completion of project goals and activities;

(2) Offers baseline and updated data on project participants;

(3) Outlines major challenges to achieving project goals, and strategies for addressing these challenges; and

(4) Describes major changes, if any, in project activities.

(g) Final Report. Within six months after the conclusion of the cooperative agreement, the consortium must prepare and submit to the Department a final technical report that—

(1) Outlines the activities and accomplishments of the partnerships;

(2) Provides evidence of the promising practices developed through the cooperative agreement;

(3) Includes the findings of the case studies and products based on these findings;

(4) Offers final data on student participants; and

(5) Includes the plan for disseminating the products and knowledge gained from the project, to appropriate audiences.

Selection Criteria

The Department will apply the following selection criteria in evaluating cooperative agreement applications under this competition.

The maximum total score any applicant may receive is 100 points.

The maximum score for each criterion is indicated in parentheses.

(a) Local Partner Support. (20 points)

(1) (i) The extent to which the applicant has in place a network of institutions that demonstrate capacity and support for the project.

(ii) The extent to which the applicant has demonstrated its capacity to obtain commitments and support from each partnership, such as support from eligible agencies, participating institutions of higher education, secondary schools, LEAs, and local employers.

(b) Technical Approach. (50 points)

(1) The extent to which the applicant presents—

(i) A clear justification for the occupational areas selected;

(ii) A clear delineation of academic and skill standards calibrated to the most rigorous State standards; and

(iii) The purpose and scope of the project. (15 points)

(2) The extent to which the applicant comprehensively addresses in its application each required activity, clearly defining the functions to be undertaken to accomplish each activity. (10 points)

(3) The extent to which the applicant—

(i) Identifies potential improvements in design and additional activities that may enhance the proposed project; and

(ii) Describes any anticipated problems and recommends solutions to these problems. (10 points)

(4) The extent to which the proposed project demonstrates its capacity to gather baseline and annual data on program participants under each partnership. (15 points)

(c) Management Plan. (20 points)

(1) The extent to which—

(i) The applicant includes a description, in a clear and sequential fashion, of the plan for managing the project; and

(ii) The plan provides credible evidence that the management of personnel, physical resources, activities, and work production will result in orderly and timely completion of work within the project performance period. (15 points)

(2) The extent to which the time commitments of the Project Director for the overall project and the time commitments of project personnel at each site are appropriate to the tasks assigned. (5 points)

(d) Project Management. (10 points)

The extent to which the Project Director for the overall project and project personnel at each site have clearly identified and documented qualifications, competencies, and experiences that are appropriate for the tasks to be carried out under this cooperative agreement.

Definitions

The definitions in section 3 of the Act apply to this competition. Specifically, the term “institution of higher education” has the meaning given the term in section 101 of the Higher Education Act of 1965.

In addition, the term “occupational area” means a group of related jobs and occupations within an industry sector, such as the following:

(a) Health Science. (1) This term comprises courses or programs or both related to planning, managing, and providing diagnostic, therapeutic, information, and environmental services in health care.

(2) The term includes the following programs of study: Therapeutic Services, Diagnostic Services, Information and Communication Services, Environmental Supportive Services, and Biotechnology and Pharmaceutical Services.

(b) Information Technology. (1) This term comprises courses or programs or both related to the design, development, support, and management of hardware, software, multimedia, and systems integration services.

(2) This term includes the following programs of study: Network Systems, Information and Support Services, Interactive Media, and Program and Software Development.

Waiver of Proposed Rulemaking

Under the Administrative Procedure Act (5 U.S.C. 553) the Department generally offers interested parties the opportunity to comment on proposed regulations and selection criteria. However, in order to make timely cooperative agreement awards in FY 2002, the Assistant Secretary has decided to issue this application notice with program requirements and selection criteria without first publishing the notice for public comment. These requirements and criteria will apply to the FY 2002 cooperative agreement competition only. The Assistant Secretary takes this action under authority of section 437(d)(1) of the General Education Provisions Act (GEPA).

Section 437(d)(1) of GEPA exempts from formal rulemaking requirements regulations governing the first grant competition under a new or substantially revised program authority (20 U.S.C. 1232(d)(1)). The program authority for Vocational Education Research Activities (20 USC 2324 (c)) was substantially revised on October 31, 1998 by Pub. L. 105-332. This is the first competition under section 114(c)(1)(A) of the Act. Any requirements or criteria that the Department establishes in future years related to this authority will be published in proposed form in the Federal Register with an opportunity for interested parties to comment.

For Applications and Further Information Contact: Scott Hess, U.S. Department of Education, 400 Maryland Avenue, SW., room 4332, Mary Switzer Building, Washington, DC 20202-7241. Telephone: (202) 205-9422, or via Internet: Scott.Hess@ed.gov.

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Department

You may view this document, as well as all other Department of Education documents published in the Federal Register, in text or Adobe Portable Document Format (PDF) on the Internet at the following site: www.ed.gov/legislation/FedRegister.

You may also view this document and the application package in text or PDF at the following site: www.ed.gov/offices/OVAE. To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 2324 (c)(1)(A).

Dated: August 7, 2002.
Carol D'Amico,
Assistant Secretary for Vocational and Adult Education.

[FR Doc. 02-20359 Filed 8-9-02; 8:45 am]

BILLING CODE 4000-01-P